DEPARTMENT OF THE INTERIOR

Bureau of Land Management

[LLORP00000.L10200000.PI0000; HAG10-0256]

Meeting Notice for the John Day/Snake Resource Advisory Council

AGENCY: Bureau of Land Management, Interior.

ACTION: Meeting Notice for the John Day/Snake Resource Advisory Council.

SUMMARY: Pursuant to the Federal Land Policy and Management Act and the Federal Advisory Committee Act, the U.S. Department of the Interior, Bureau of Land Management (BLM) John Day-Snake Resource Advisory Council (JDSRAC) will meet as indicated below:

DATES: The JDSRAC meeting will begin at 7 p.m. Pacific Daylight Saving Time on May 25, 2010.

ADDRESSES: The JDSRAC will meet by teleconference. For a copy of material to be discussed or the conference call number, please contact the BLM, Prineville District; information below.

SUPPLEMENTARY INFORMATION: The JDSRAC will conduct a public meeting by teleconference to discuss and come to consensus on input during the public comment period for the Blue Mountains Forests Revised Land and Resource Management Plan. The conference call meeting is open for the public to access by telephone. Public comment is scheduled from 7:45 to 8 p.m. (Pacific Daylight Saving Time) May 25, 2010. For a copy of the information distributed to the JDSRAC members, please contact BLM Prineville District Office by telephone at 541-416-6700 or at the address listed below.

FOR FURTHER INFORMATION CONTACT: Christina Lilienthal, Public Affairs Specialist, 3050 NE Third, Prineville, OR 97754, (541) 416-6889 or e-mail: christina_lilienthal@blm.gov.

Stephen R. Robertson,
Associate District Manager, Prineville District Office.

[FR Doc. 2010-11569 Filed 5-13-10; 8:45 am]

BILLING CODE 4310-33-P